DEPARTMENT OF THE INTERIOR

National Park Service

National Register of Historic Places; Notification of Pending Nominations

Nominations for the following properties being considered for listing in the National Register were received by the National Park Service before September 1, 2001.

Pursuant to section 60.13 of 36 CFR Part 60 written comments concerning the significance of these properties under the National Register criteria for evaluation may be forwarded to the National Register, National Park Service, 1849 C St. NW., NC400, Washington, DC 20240. Written comments should be submitted by November 9, 2001.

Beth M. Boland,
Acting Keeper of the National Register.

ARKANSAS

Woodruff County

Jess Norman Post 166 American Legion Hut, 222 S. First St., Augusta, 01001100

CALIFORNIA

San Bernardino County

Goff Schoolhouse, 37198 Lanfair Rd., Goffs, 01001102

San Francisco County

Fuller Company Glass Warehouse, 50 Green St., San Francisco, 01001101

Long Syrup Refinery, 2701 Sixteenth St., San Francisco, 01001103

COLORADO

El Paso County

Cottonwood Creek Bridge, On Vincent Dr. over Cottonwood Creek., Colorado Springs, 01001104

Jefferson County

Barnes—Peery House, 622 Water St., Golden, 01001105

Montrose County

Shavano Valley Rock Art Site, Address Restricted, Montrose, 01001106

FLORIDA

Jefferson County

Bethel School, Cty Rd. 149, Monticello, 01001084

Nassau County

Hippard House, 5406 Ervin St., American Beach, 01001087

Polk County

North Avenue Historic District, 100 Blk. of North Ave., Lake Wales, 01001086

St. Johns County

Sanchez Farmstead, 7270 Old State Rd. 207, Elkton, 01001083

St. Lucie County

Arcade Building, 101 US 1, N, Fort Pierce, 01001085

Wakulla County

Sopchoppy School, 164 Yellow Jacket Ave., Sopchoppy, 01001088

GEORGIA

Chatham County

Gordonston Historic District, Roughly bounded by Skidaway Rd., Goebel Ave., Gwinnett St. and Pennsylvania Ave., Savannah, 01001107

IOWA

Woodbury County

Alhambra Apartments, 801 8th St., Sioux City, 01001089

KANSAS

Atchison County

Atchinson Santa Fe Freight Depot, (Railroad Resources of Kansas MPS) 200 S. Tenth St., Atchison, 01001090

Clay County

Auld Stone Barn, 255 Utah Rd., Wakefield, 01001108

Harvey County

Halstead Santa Fe Depot, (Railroad Resources of Kansas MPS) 116 E. First St., Halstead, 01001094

Kingman County

Kingman Santa Fe Depot, (Railroad Resources of Kansas MPS) 201 East Sherman, Kingman, 01001091

Morris County

Council Grove Missouri, Kansas and Texas Depot, (Railroad Resources of Kansas MPS) 512 E. Main St., Council Grove, 01001092

Osborne County

Downs Missouri Pacific Depot, (Railroad Resources of Kansas MPS) 710 Railroad St., Downs, 01001093

MISSOURI

Greene County

Benton Avenue AME Church, 830 N. Benton Ave., Springfield, 01001109

NORTH CAROLINA

Martin County

Williamston Historic District, Roughly bounded by Franklin, Harrell, Williams, South Haughton, North Railroad, Roberson, and White Sts., Williamston, 01001095

Northampton County

Holoman—Outland House, Address Restricted, Rich Square, 01001114

Pender County

Ashe, Gov. Samuel, Grave, Farm Ln., from S side of NC 1411, 0.7 mi. E of crossing of Pike Creek, Rocky Point, 01001096

Pitt County

Oakmont, 2909 S. Memorial Dr., Greenville, 01001115

Rutherford County

Watson, T. Max, House, 297 E. Main St., Forest City, 01001110

Transylvania County

Brombacher, Max and Claire, House, 571 E. Main St., Brevard, 01001111

Wake County

North Carolina Agricultural Experiment Station Cottage, 2714 Vanderbilt Ave., Raleigh, 01001112

Sunnyside, (Wake County MPS) 210 S. Selma Rd., Wendell, 01001113

OKLAHOMA

Carter County

Lake Murray State Park, 1.9 mi. SE of jct. of US 77 and US 70, Ardmore, 01001097

PENNSYLVANIA

Washington County

Monongahela Cemetery, Cemetery Hill Rd. at Gregg St., Monongahela City, 01001116

SOUTH CAROLINA

Calhoun County

Haigler House, Winding Brook Dr., Cameron, 01001099

Florence County

Mt. Zion Rosenwald School, 5040 Liberty Chapel Rd., Florence, 01001098

[FR Doc. 01-26889 Filed 10-24-01; 8:45 am]

BILLING CODE 4310-70-P